FEDERAL DEPOSIT INSURANCE CORPORATION

Notice of Agency Meeting

Pursuant to the provisions of the “Government in the Sunshine Act” (5 U.S.C. 552b), notice is hereby given that at 10:03 a.m. on Tuesday, January 27, 2009, the Board of Directors of the Federal Deposit Insurance Corporation met in open session to consider the following matters:

Summary Agenda

Disposition of minutes of previous Board of Directors' meetings.

Discussion Agenda

Memorandum and resolution re: Proposed Rule for Interest Rate Restrictions for Institutions that are Less than Well-Capitalized.

Memorandum and resolution re: Final Rule on Processing Deposit Accounts in the Event of an Insured Depository Institution Failure.

In calling the meeting, the Board determined, on motion of Vice Chairman Martin J. Gruenberg, seconded by Director John C. Dugan (Director, Comptroller of the Currency), and concurred in by Director Thomas J. Curry (Appointive), Director John M. Reich (Director, Office of Thrift Supervision), and Chairman Sheila C. Bair, that Corporation business required its consideration of the matters on less than seven days' notice to the public; and that no earlier notice of the meeting than that previously provided on January 22, 2009, was practicable.

The meeting was held in the Board Room of the FDIC Building located at 550 17th Street, NW., Washington, DC.

Dated: January 27, 2009.
Federal Deposit Insurance Corporation.
Robert E. Feldman,
Executive Secretary.

[FR Doc. E9-2059 Filed 1-29-09; 8:45 am]

BILLING CODE 6714-01-P